DEPARTMENT OF AGRICULTURE

Animal and Plant Health Inspection Service

[Docket No. 05-084-1]

Black-Tailed Prairie Dog Conservation and Management on the Nebraska National Forest and Associated Units; Record of Decision

AGENCY: Animal and Plant Health Inspection Service, USDA.

ACTION: Notice of availability.

SUMMARY: This notice advises the public that the Animal and Plant Health Inspection Service's Wildlife Services program (APHIS-WS) has prepared a record of decision based on the Black-Tailed Prairie Dog Conservation and Management on the Nebraska National Forest and Associated Units final environmental impact statement.

ADDRESSES: Copies of the APHIS-WS record of decision may be viewed on the Wildlife Services Web site at http://www.aphis.usda.gov/ws/pubs.html or obtained from the person listed under FOR FURTHER INFORMATION CONTACT. The final environmental impact statement on which this APHIS-WS record of decision is based and the U.S. Department of Agriculture, Forest Service (USDA-FS) record of decision may be found on the Nebraska National Forest Web site at http://www.fs.fed.us/r2/nebraska/ and are also available for public inspection at the USDA-FS offices and public libraries listed in the SUPPLEMENTARY INFORMATION section of this notice.

FOR FURTHER INFORMATION CONTACT: Mr. Gary A. Littauer, Environmental Manager, Operational Support Staff, WS, APHIS, 8441 Washington NE., Albuquerque, NM 87113; (505) 346-2632.

SUPPLEMENTARY INFORMATION: This notice advises the public that the Animal and Plant Health Inspection Service's Wildlife Services program (APHIS-WS) has prepared a record of decision based on the Black-Tailed Prairie Dog Conservation and Management on the Nebraska National Forest and Associated Units final environmental impact statement (EIS) prepared by the Forest Service, U.S. Department of Agriculture. APHIS-WS was a cooperating agency in the preparation of the EIS.

A notice announcing the availability of the Forest Service's final EIS was published in the Federal Register on August 12, 2005 (70 FR 47199), and a notice announcing that the Forest Service's record of decision had been signed on August 3, 2005, was published in the Federal Register on August 26, 2005 (70 FR 50297). APHIS has independently reviewed the EIS and has concluded its comments and suggestions have been satisfied. APHIS has adopted the final EIS and has prepared a record of decision that is now available to the public. In addition to the Web site location provided in ADDRESSES above, the final EIS and Forest Service's record of decision are available for viewing at the following locations between 8 a.m. and 4:30 p.m., Monday through Friday, except holidays:

• Nebraska National Forest Supervisor's Office, 125 North Main St., Chadron, NE;

• Pine Ridge Ranger District, 1240 W. 16th St., Chadron, NE;

• Bessey Ranger District, State Spur 86B off Hwy 2, Halsey, NE;

• Buffalo Gap National Grassland, Fall River Ranger District, 1801 Highway 18 Truck Bypass, Hot Springs, SD;

• Buffalo Gap National Grassland, Wall Ranger District, 708 Main Street, Wall, SD; and

• Fort Pierre National Grassland, 1020 N. Deadwood St., Ft. Pierre, SD.

CDs of the final EIS are available for viewing at the following area public libraries:

• Rawlins Municipal Library, 1000 East Church St., Pierre SD;

• Wall City Community Library, 407 Main St., Wall, SD;

• Oglala Lakota College Library, Piya Wiconi Center, Kyle, SD;

• Pine Ridge College Center Library, Pine Ridge, SD;

• Lower Brule Tribal Office, 187 Oyate Circle, Lower Brule, SD;

• Rapid City Public Library, 610 Quincy St., Rapid City, SD;

• Rapid City Public Library, 300 6th St., Rapid City, SD;

• Hot Springs Public Library, 1543 Baltimore St., Hot Springs, SD; and

• Chadron Public Library, 507 Bordeaux St., Chadron, NE.

The APHIS-WS record of decision has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 21st day of November, 2005.
W. Ron DeHaven,
Administrator, Animal and Plant Health Inspection Service.

[FR Doc. 05-23302 Filed 11-23-05; 8:45 am]

BILLING CODE 3410-34-P